DEPARTMENT OF COMMERCE

National Oceanic and Atmospheric Administration

RIN 0648-BD89

Takes of Marine Mammals Incidental to Specified Activities; U.S. Navy Training and Testing Activities in the Northwest Training and Testing Study Area

AGENCY: National Marine Fisheries Service (NMFS), National Oceanic and Atmospheric Administration (NOAA), Commerce.

ACTION: Notice; receipt of application for letter of authorization; request for comments and information.

SUMMARY: NMFS has received a request from the U.S. Navy (Navy) for authorization to take marine mammals incidental to the training and testing activities conducted in the Northwest Training and Testing (NWTT) Study Area from October 2015 through October 2020. Pursuant to the Marine Mammal Protection Act (MMPA), NMFS announces our receipt of the Navy's request for the development and implementation of regulations governing the incidental taking of marine mammals and inviting information, suggestions, and comments on the Navy's application and request.

DATES: Comments and information must be received no later than February 28, 2014.

ADDRESSES: Comments on the application should be addressed to Michael Payne, Chief, Permits and Conservation Division, Office of Protected Resources, National Marine Fisheries Service, 1315 East-West Highway, Silver Spring, MD 20910-3225. The mailbox address for providing email comments is ITP.Hopper@noaa.gov. NMFS is not responsible for email comments sent to addresses other than the one provided here. Comments sent via email, including all attachments, must not exceed a 10-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

A copy of the Navy's application may be obtained by visiting the Internet at: http://www.nmfs.noaa.gov/pr/permits/incidental.htm. The Navy's Draft Environmental Impact Statement (DEIS) for NWTT was made available to the public on January 17, 2014. A 60-day public comment period is open through March 18, 2014. Documents cited in this notice may also be viewed, by appointment, during regular business hours, at the aforementioned address.

FOR FURTHER INFORMATION CONTACT: Brian D. Hopper, Office of Protected Resources, NMFS, (301) 427-8401.

SUPPLEMENTARY INFORMATION:

Background

Sections 101(a)(5)(A) and (D) of the MMPA (16 U.S.C. 1361 et seq.) direct the Secretary of Commerce to allow, upon request, the incidental, but not intentional, taking of small numbers of marine mammals by United States citizens who engage in a specified activity (other than commercial fishing) within a specific geographical region if certain findings are made and either regulations are issued or, if the taking is limited to harassment, a notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “. . . an impact resulting from the specified activity that cannot be reasonably expected to, and is not reasonably likely to, adversely affect the species or stock through effects on annual rates of recruitment or survival.”

With respect to military readiness activities, the MMPA defines “harassment” as: “(i) any act that injures or has the significant potential to injure a marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].”

Summary of Request

On December 18, 2013, NMFS received an application from the Navy requesting a Letters of Authorization (LOA) for the take of 29 species of marine mammals incidental to Navy training and testing activities to be conducted in the NWTT Study Area over 5 years. The Navy is requesting a 5-year LOA for training and testing activities to be conducted from 2015 through 2020. The Study Area includes the existing Northwest Training Range Complex, the Keyport Range Complex, Carr Inlet Operations Area, Southeast Alaska Acoustic Measurement Facility (SEAFAC), and Navy pierside locations where sonar maintenance or testing may occur (see Figure 1-1 of the Navy's application for a map of the NWTT Study Area). The activities conducted within the NWTT Study Area are classified as military readiness activities. The Navy states that these activities may expose some of the marine mammals present within the NWTT Study Area to sound from underwater acoustic sources and explosives. In addition, incidental takes of marine mammals may occur from ship strike. The Navy is requesting authorization to take 29 marine mammal species by Level B (behavioral) harassment; 9 of those marine mammal species may be taken by injury or mortality.

Description of the Specified Activity

In the application submitted to NMFS, the Navy requests authorization to take marine mammals incidental to conducting the following training and testing activities: Anti-surface warfare; anti-submarine warfare; mine warfare; naval special warfare; major training activities; Naval Air Systems Command (NAVAIR) testing; anti-surface warfare testing; anti-submarine warfare testing; Naval Sea Systems Command (NAVSEA) testing; and Office of Naval Research (ONR) and Naval Research Laboratory (NRL) testing. Detailed descriptions of these activities, including duration, location, and equipment involved, are provided in the Navy's application. The Navy has also prepared a Draft Environmental Impact Statement (DEIS) analyzing the effects on the human environment of implementing their preferred alternative (among others).

Information Solicited

Interested persons may submit information, suggestions, and comments concerning the Navy's request (see ADDRESSES). All input related to the Navy's NWTT request and NMFS' role in governing the incidental taking of marine mammals will be considered by NMFS when developing, if appropriate, the most effective regulations governing the issuance of a Letter of Authorization.

Dated: January 24, 2014.
Donna S. Wieting,
Director, Office of Protected Resources, National Marine Fisheries Service.

[FR Doc. 2014-01724 Filed 1-28-14; 8:45 am]

BILLING CODE 3510-22-P